DEPARTMENT OF ENERGY

Federal Energy Regulatory Commission

[Docket No. ER00-2264-000, et al.]

MidAmerican Energy Company, et al.; Electric Rate and Corporate Regulation Filings

April 27, 2000.

Take notice that the following filings have been made with the Commission:

1. MidAmerican Energy Company

[Docket No. ER00-2264-000]

Take notice that on April 24, 2000, MidAmerican Energy Company (MidAmerican), 666 Grand Avenue, Des Moines, Iowa 50309, filed with the Commission a Firm Transmission Service Agreement with Williams Energy Marketing & Trading Company, dated March 28, 2000, and a Non-Firm Transmission Service Agreement with Williams Energy, dated March 28, 2000, entered into pursuant to MidAmerican's Open Access Transmission Tariff.

MidAmerican requests an effective date of March 28, 2000, for the Agreements with Williams Energy, and accordingly seeks a waiver of the Commission's notice requirement. MidAmerican has served a copy of the filing on Williams Energy, the Iowa Utilities Board, the Illinois Commerce Commission and the South Dakota Public Utilities Commission.

Comment date: May 15, 2000, in accordance with Standard Paragraph E at the end of this notice.

2. Florida Power & Light Company

[Docket No. ER00-2267-000]

Take notice that on April 24, 2000, Florida Power & Light Company (FPL) tendered for filing proposed service agreements with Okeelanta Corporation for Non-Firm transmission service under FPL's Open Access Transmission Tariff.

FPL requests that the proposed service agreements are permitted to become effective on April 21, 2000.

FPL states that this filing is in accordance with Part 35 of the Commission's Regulations.

Comment date: May 15, 2000, in accordance with Standard Paragraph E at the end of this notice.

3. Consumers Energy Company

[Docket No. ER00-2269-000]

Take notice that on April 24, 2000, Consumers Energy Company (Consumers) tendered for filing a Facilities Agreement Between Consumers and Modular Power Systems, LLC, (Modular), dated April 10, 2000. Under the Facilities Agreement, Consumers is to construct, operate and maintain various facilities needed in connection with the operation of generating facilities being built by Modular.

Consumers requests that the Facilities Agreement be allowed to become effective within 60 days of filing.

Copies of the filing were served upon Modular and upon the Michigan Public Service Commission.

Comment date: May 15, 2000, in accordance with Standard Paragraph E at the end of this notice.

4. PPL Montana, LLC

[Docket No. ER00-2270-000]

Take notice that on April 24, 2000, PPL Montana, LLC (PPL Montana), tendered for filing a Service Agreement dated April 11, 2000 with Commercial Energy of Montana, Inc. (Commercial Energy) under PPL Montana's Market-Based Rate Tariff, FERC Electric Tariff, Original Volume No. 1. The Service Agreement adds Commercial Energy as an eligible customer under the Tariff.

PPL Montana requests an effective date of April 1, 2000 for the Service Agreement.

PPL Montana states that Commercial Energy has been served with a copy of this filing.

Comment date: May 15, 2000, in accordance with Standard Paragraph E at the end of this notice.

5. PPL Great Works, LLC

[Docket No. ER00-2271-000]

Take notice that on April 24, 2000, PPL Great Works, LLC (PPL Great Works) filed a Service Agreement dated April 14, 2000 with PPL EnergyPlus, LLC (PPL EnergyPlus) under PPL Great Works' Market-Based Rate Tariff, FERC Electric Tariff, Original Volume No. 1. The Service Agreement adds PPL EnergyPlus as an eligible customer under the Tariff.

PPL Great Works requests an effective date of June 26, 2000 for the Service Agreement.

PPL Great Works states that PPL EnergyPlus has been served with a copy of this filing.

Comment date: May 15, 2000, in accordance with Standard Paragraph E at the end of this notice.

Standard Paragraphs

E. Any person desiring to be heard or to protest such filing should file a motion to intervene or protest with the Federal Energy Regulatory Commission, 888 First Street, N.E., Washington, D.C. 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/ online/rims.htm (call 202-208-2222 for assistance).

David P. Boergers,
Secretary.

[FR Doc. 00-10952 Filed 5-2-00; 8:45 am]

BILLING CODE 6717-01-P